DEPARTMENT OF COMMERCE

International Trade Administration

[A-583-849]

Steel Wire Garment Hangers From Taiwan: Final Determination of Sales at Less Than Fair Value

AGENCY: Import Administration, International Trade Administration, Department of Commerce.

SUMMARY: The Department of Commerce (the “Department”) has determined that imports of steel wire garment hangers (“hangers”) from Taiwan are being, or are likely to be, sold in the United States at less than fair value (“LTFV”), as provided in section 735 of the Tariff Act of 1930, as amended (the “Act”). The estimated margins of sales at LTFV are listed in the “Continuation of Suspension of Liquidation” section of this notice.

DATES: Effective Date: October 15, 2012

FOR FURTHER INFORMATION CONTACT: Paul Walker, AD/CVD Operations, Office 9, Import Administration, International Trade Administration, U.S. Department of Commerce, 14th Street and Constitution Avenue NW., Washington, DC 20230; telephone-202.482.0413.

SUPPLEMENTARY INFORMATION:

Background

On August 2, 2012, the Department published in the Federal Register the Preliminary Determination in the antidumping duty investigation of hangers from Taiwan.¹ No interested party provided case briefs or rebuttal briefs.

¹ See Steel Wire Garment Hangers from Taiwan: Preliminary Determination of Sales at Less than Fair Value, 77 FR 46055 (August 2, 2012) (“Preliminary Determination”).

Period of Investigation

The period of investigation (“POI”) is October 1, 2010, through September 30, 2011.

Scope of Investigation

The merchandise subject to this investigation is steel wire garment hangers, fabricated from carbon steel wire, whether or not galvanized or painted, whether or not coated with latex or epoxy or similar gripping materials, and whether or not fashioned with paper covers or capes (with or without printing) or nonslip features such as saddles or tubes. These products may also be referred to by a commercial designation, such as shirt, suit, strut, caped, or latex (industrial) hangers.

Specifically excluded from the scope of the investigation are (a) wooden, plastic, and other garment hangers that are not made of steel wire; (b) steel wire garment hangers with swivel hooks; (c) steel wire garment hangers with clips permanently affixed; and (d) chrome plated steel wire garment hangers with a diameter of 3.4 mm or greater.

The products subject to the investigation are currently classified under U.S. Harmonized Tariff Schedule (“HTSUS”) subheadings 7326.20.0020 and 7323.99.9080. Although the HTSUS subheadings are provided for convenience and customs purposes, the written description of the merchandise is dispositive.

Final Determination of Sales at LTFV

As noted in the Preliminary Determination, because the antidumping duty questionnaires sent to the selected respondent, Golden Canyon Ltd. (“Golden Canyon”), were returned as undeliverable, in accordance with our practice, we classified Golden Canyon as an unlocated company and assigned it the all others rate.² For the other selected respondent, Taiwan Hanger Manufacturing Co., Ltd. (“Taiwan Hanger”), in the Preliminary Determination we applied facts otherwise available with an adverse inference, because Taiwan Hanger twice received the questionnaire, and then returned the questionnaire to the Department at a later date.³ We note that our determination here with respect to Golden Canyon and Taiwan Hanger is identical to our determination in the Preliminary Determination.⁴

² See, e.g., Chrome-Plated Lug Nuts from Taiwan; Preliminary Results of Antidumping Duty Administrative Review, 64 FR 55234, 55234 (October 12, 1999), unchanged in Chrome-Plated Lug Nuts from Taiwan; Final Results of Antidumping Duty Administrative Review, 65 FR 7491 (February 15, 2000).

³ See Memorandum to the File, “Steel Wire Hangers from Taiwan: Questionnaire Delivery Attempts,” dated July 26, 2012, which details our attempts to deliver the questionnaires to Golden Canyon and Taiwan Hanger.

⁴ See Preliminary Determination at 46056.

Continuation of Suspension of Liquidation

Pursuant to section 735(c)(1)(B) of the Act, we will instruct U.S. Customs and Border Protection (“CBP”) to continue to suspend liquidation of all entries of hangers from Taiwan which were entered, or withdrawn from warehouse, for consumption on or after August 2, 2012, the date of publication of the Preliminary Determination. We will instruct CBP to require a cash deposit or the posting of a bond equal to the weighted-average margins, as indicated below, as follows: (1) The rates for Golden Canyon and Taiwan Hanger will be the rates we have determined in this final determination; (2) if the exporter is not a firm identified in this investigation but the producer is, the rate will be the rate established for the producer of the subject merchandise; (3) the rate for all other producers or exporters will be 69.98 percent, as discussed in the “All Others Rate” section, below. These suspension-of-liquidation instructions will remain in effect until further notice.

Manufacturer/Exporter | Margin (percent)
Golden Canyon Ltd. | 69.98
Taiwan Hanger Manufacturing Co., Ltd. | 125.43
All Others Rate | 69.98

All Others Rate

Section 735(c)(5)(A) of the Act provides that the estimated all others rate shall be an amount equal to the weighted average of the estimated weighted-average dumping margins established for exporters and producers individually investigated excluding any zero or de minimis margins and any margins determined entirely under section 776 of the Act. No respondent has participated in this investigation. Therefore, as noted in the Preliminary Determination, because the only dumping margins for this final determination are found in the petition, the all others rate is a simple average of these values, which is 69.98 percent.⁵

⁵ See Initiation Checklist, dated January 18, 2012, at Attachment V; see, e.g., Certain Steel Nails from the United Arab Emirates: Amended Final Determination of Sales at Less Than Fair Value and Antidumping Duty Order, 77 FR 27421 (May 10, 2012) (where the Department determined the all others rate using a simple average).

Disclosure

We intend to disclose to parties in this proceeding the calculations performed within five days of the date of publication of this notice in accordance with section 351.224(b) of the Department's regulations.

International Trade Commission Notification

In accordance with section 735(d) of the Act, we have notified the International Trade Commission (“ITC”) of our final determination. As our final determination is affirmative and in accordance with section 735(b)(2) of the Act, the ITC will determine, within 45 days, whether the domestic industry in the United States is materially injured, or threatened with material injury, by reason of imports or sales (or the likelihood of sales) for importation of the subject merchandise. If the ITC determines that such injury does exist, the Department will issue an antidumping duty order directing CBP to assess antidumping duties on all imports of the subject merchandise entered, or withdrawn from warehouse, for consumption on or after the effective date of the suspension of liquidation.

Notification Regarding Administrative Protective Order

This notice also serves as a final reminder to parties subject to administrative protective order (“APO”) of their responsibility concerning the disposition of proprietary information disclosed under APO in accordance with section 351.305 of the Department's regulations. Timely notification of the destruction of APO materials or conversion to judicial protective order is hereby requested. Failure to comply with the regulations and the terms of an APO is a sanctionable violation.

This determination is issued and published pursuant to sections 735(d) and 777(i)(l) of the Act.

Dated: October 9, 2012.
Paul Piquado,
Assistant Secretary for Import Administration.

[FR Doc. 2012-25291 Filed 10-12-12; 8:45 am]

BILLING CODE 3510-DS-P